ENVIRONMENTAL PROTECTION AGENCY

40 CFR Part 52

[EPA-R08-OAR-2015-0158; FRL-9924-80-Region 8]

Approval and Promulgation of Air Quality Implementation Plans; Montana; Revised Format for Materials Being Incorporated by Reference for Montana

AGENCY: Environmental Protection Agency (EPA).

ACTION: Final rule; administrative change.

SUMMARY: The Environmental Protection Agency (EPA) is revising the format of materials submitted by the state of Montana that are incorporated by reference (IBR) into its State Implementation Plan (SIP). The regulations affected by this format change have all been previously submitted by Montana and approved by the EPA.

DATES: This action is effective April 24, 2015.

ADDRESSES: EPA has established a docket for this action under Docket ID No. EPA-R08-OAR-2015-0158. SIP Materials which are incorporated by reference into 40 CFR part 52 are available for inspection Monday through Friday, 8:00 a.m. to 4:00 p.m., excluding federal holidays, at the Air Program, Environmental Protection Agency (EPA), Region 8, 1595 Wynkoop Street, Denver, Colorado 80202-1129. EPA requests that you contact the individual listed in the FOR FURTHER INFORMATION CONTACT section to view the hard copy of the docket. An electronic copy of the state's SIP compilation is also available at http://www.epa.gov/region8/air/sip.html. A hard copy of the regulatory and source-specific portions of the compilation will also be maintained at the Air and Radiation Docket and Information Center, EPA West Building, Room 3334, 1301 Constitution Ave. NW., Washington, DC 20460 and the National Archives and Records Administration (NARA). If you wish to obtain materials from a docket in the EPA Headquarters Library, please call the Office of Air and Radiation (OAR) Docket at (202) 566-1742. For information on the availability of this material at NARA call (202) 741-6030, or go to http://www.archives.gov/federal_register/code_of_federal_regulations/ibr_locations.html.

FOR FURTHER INFORMATION CONTACT: Kathy Ayala, Air Program, U.S. Environmental Protection Agency (EPA), Region 8, Mailcode 8P-AR, 1595 Wynkoop Street, Denver, Colorado 80202-1129, 303-312-6142, ayala.kathy@epa.gov.

SUPPLEMENTARY INFORMATION:

I. Change in IBR Format

This format revision will affect the “Identification of plan” section of 40 CFR part 52, as well as the format of the SIP materials that will be available for public inspection at the National Archives and Records Administration (NARA); the Air and Radiation Docket and Information Center located at EPA Headquarters in Washington, DC, and the EPA Region 8 Office.

A. Description of a SIP

Each state has a SIP containing the control measures and strategies used to attain and maintain the national ambient air quality standards (NAAQS) and achieve certain other Clean Air Act (Act) requirements (e.g., visibility requirements, prevention of significant deterioration). The SIP is extensive, containing such elements as air pollution control regulations, emission inventories, monitoring network descriptions, attainment demonstrations, and enforcement mechanisms.

B. How EPA Enforces the SIP

Each SIP revision submitted by Montana must be adopted at the state level after undergoing reasonable notice and public hearing. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified at 40 CFR part 52. Once EPA approves a SIP, it is enforceable by EPA and citizens in federal district court.

We do not reproduce in 40 CFR part 52 the full text of the Montana regulations that we have approved. Instead, we incorporate them be reference or IBR. We approve a given state regulation with a specific effective date and then refer the public to the location(s) of the full text version of the state regulation(s) should they want to know which measures are contained in a given SIP (see I.F., Where You Can Find a Copy of the SIP Compilation).

C. How the State and EPA Update the SIP

The SIP is a dynamic document which the state can revise as necessary to address the unique air pollution problems in the state. Therefore, EPA from time to time must take action on SIP revisions containing new and/or revised regulations.

On May 22, 1997 (62 FR 27968), EPA announced revised procedures for IBR of federally approved SIPs. The procedures announced included: (1) A new process for IBR of material submitted by states into compilations and a process for updating those compilations on roughly an annual basis; (2) a revised mechanism for announcing EPA approval of revisions to an applicable SIP and updating both the compilations and the CFR; and, (3) a revised format for the “Identification of plan” sections for each applicable subpart to reflect these revised IBR procedures.

D. How EPA Compiles the SIP

We have organized into a compilation the federally-approved regulations, source-specific requirements and nonregulatory provisions we have approved into the SIP. These compilations may be found at http://www.epa.gov/region8/air/sip.html. In addition, we maintain hard copies of the compilation which are updated periodically.

E. How EPA Organizes the SIP Compilation

Each compilation contains three parts. Part one contains the state regulations that have been approved, part two contains the source-specific requirements that have been approved as part of the SIP (if any), and part three contains non-regulatory provisions that have been approved. Each compilation contains a table of identifying information for each regulation, each source-specific requirement, and each nonregulatory provision. The state effective dates in the tables indicate the date of the most recent revision to a particular approved regulation. The table of identifying information in the compilation corresponds to the table of contents published in 40 CFR part 52 for the state. The EPA Regional Offices have the primary responsibility for ensuring accuracy and updating the compilations.

F. Where You Can Find a Copy of the SIP Compilation

EPA Region 8 developed and will maintain the compilation for Montana. An electronic copy of the compilation is contained at http://www.epa.gov/region8/air/sip.html. SIP Materials which are incorporated by reference into 40 CFR part 52 are also available for inspection at the following locations: Air and Radiation Docket and Information Center, U.S. Environmental Protection Agency, EPA West Building, Room 3334, 1301 Constitution Ave. NW., Washington, DC 20460 or the National Archives and Records Administration (NARA). For information on the availability of this material at NARA, call (202) 741-6030, or go to: http://www.archives.gov/federal-register/cfr/ibr-locations.html.

G. The Format of the New Identification of Plan Section

In order to better serve the public, EPA has revised the organization of the “Identification of plan” section in 40 CFR part 52 and included additional information to clarify the elements of the SIP.

The revised Identification of plan section for Montana contains five subsections:

1. Purpose and scope (see 40 CFR 52.1370(a));

2. Incorporation by reference (see 40 CFR 52.1370(b));

3. EPA-approved regulations (see 40 CFR 52.1370(c));

4. EPA-approved source-specific requirements (see 40 CFR 52.1370(d)); and,

5. EPA-approved nonregulatory provisions such as transportation control measures, statutory provisions, control strategies, monitoring networks, etc. (see 40 CFR 42.1370(e)).

H. When a SIP Revision Becomes Federally Enforceable

All revisions to the applicable SIP are federally enforceable as of the effective date of EPA's approval of the respective revision. In general, SIP revisions become effective 30 to 60 days after publication of EPA's SIP approval action in the Federal Register. In specific cases, a SIP revision action may become effective less than 30 days or greater than 60 days after the Federal Register publication date. In order to determine the effective date of EPA's approval for a specific Montana SIP provision that is listed in 40 CFR 52.1370(c), (d), or (e), consult the volume and page of the Federal Register cited in 40 CFR 52.1370 for that particular provision.

I. The Historical Record of SIP Revision Approvals

To facilitate enforcement of previously approved SIP provisions and to provide a smooth transition to the new SIP processing system, we are retaining the original Identification of plan section (see 40 CFR 52.1397). This section previously appeared at 40 CFR 52.1370. After an initial two-year period, we will review our experience with the new table format and will decide whether to retain the original Identification of plan section (40 CFR 52.1397) for some further period.

II. What EPA is doing in this action?

This action constitutes a “housekeeping” exercise to reformat the codification of the EPA-approved Montana SIP.

III. Good Cause Exemption

EPA has determined that this action falls under the “good cause” exemption in section 553(b)(3)(B) of the Administrative Procedure Act (APA) which, upon a finding of “good cause” authorizes agencies to dispense with public participation, and section 553(d)(3), which allows an agency to make a rule effective immediately (thereby avoiding the 30-day delayed effective date otherwise provided for in the APA). This action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in this SUPPLEMENTARY INFORMATION section, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules are discussed in previous actions taken on the state's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in federal and approved state programs. 5 U.S.C. 808(2). As stated previously, EPA has made such a good cause finding and established an effective date of April 24, 2015. EPA will submit a report containing this rule and other required information to the U.S. Senate, the U.S. House of Representatives, and the Comptroller General of the United States prior to publication of the rule in the Federal Register. This change to the Identification of plan for Montana is not a “major rule” as defined by 5 U.S.C. 804(2).

C. Petitions for Judicial Review

EPA has also determined that the provisions of section 307(b)(1) of the Clean Air Act pertaining to petitions for judicial review are not applicable to this action. Prior EPA rulemaking actions for each individual component of the Montana SIP compilation had previously afforded interested parties the opportunity to file a petition for judicial review in the United States Court of Appeals for the appropriate circuit within 60 days of such rulemaking action. Thus, EPA sees no need in this action to reopen the 60-day period for filing such petitions for judicial review for this “Identification of plan” reorganization action for Montana.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 14, 2015.
Shaun L. McGrath,
Regional Administrator, Region 8.

40 CFR part 52 is amended to read as follows:

PART 52 [AMENDED]

1. The authority citation for part 52 continues to read as follows:

Authority: 42 U.S.C. 7401 et seq.

Subpart BB—Montana

§ 52.1370 [Redesignated as § 52.1397]

2. Section 52.1370 is redesignated as § 52.1397, and in newly redesignated § 52.1397, revise the section heading and paragraph (a) to read as follows:

§ 52.1397 Original identification of plan.

(a) This section identifies the original “Air Implementation Plan for the State of Montana” and all revisions submitted by Montana that were federally approved prior to March 1, 2015.

* * * * *

3. Add § 52.1370 to read as follows:

§ 52.1370 Identification of plan.

(a) Purpose and scope. This section sets forth the applicable State Implementation Plan for Montana under section 110 of the Clean Air Act, 42 U.S.C. 7410 and 40 CFR part 51 to meet national ambient air quality standards or other requirements under the Clean Air Act.

(b) Incorporation by reference. (1) Material listed in paragraphs (c), (d), and (e) of this section with an EPA approval date prior to March 1, 2015, was approved for incorporation by reference by the Director of the Federal Register in accordance with 5 U.S.C. 552(a) and 1 CFR part 51. Material is incorporated as submitted by the state to EPA, and notice of any change in the material will be published in the Federal Register. Entries for paragraphs (c), (d), and (e) of this section with EPA approval dates after March 1, 2015, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of March 1, 2015.

(3) Copies of the materials incorporated by reference may be inspected at the Environmental Protection Agency, Region 8, 1595 Wynkoop Street, Denver, Colorado 80202-1129; Air and Radiation Docket and Information Center, U.S. Environmental Protection Agency, West Building, 1301 Constitution Ave. NW., Washington, DC 20460; and, the National Archives and Records Administration (NARA). For information on the availability of materials from the docket in the EPA Headquarters Library, please call the Office of Air and Radiation (OAR) at (202) 566-1742. For information on the availability of this material at NARA, call (202) 741-6030, or go to http://www.archives.gov/federal-register/cfr/ibr-locations.html. Copies of the Montana regulations we have approved are also available at http://www.epa.gov/region8/air/sip.html.

(c) EPA-approved regulations.

State citation | Rule title | State effective date | EPA final rule date | Final rule citation | Comments
(1) Statewide
(i) Administrative Rules of Montana, Subchapter 01, General Provisions
17.8.101 | Definitions | 8/11/2006 | 1/26/2010 | 75 FR 3993
17.8.102 | Incorporation by Reference | 10/24/2008 | 1/29/2010 | 75 FR 4698
17.8.103 | Incorporation by Reference | 10/26/2007 | 1/26/2010 | 75 FR 3993
17.8.105 | Testing Requirements | 7/4/1996 | 8/13/2001 | 66 FR 42427
17.8.106 | Source Testing Protocol | 10/8/1999 | 8/13/2001 | 66 FR 42427
17.8.110 | Malfunctions | 4/11/2003 | 1/24/2006 | 71 FR 3776
17.8.111 | Circumvention | 9/13/1985 | 8/13/2001 | 66 FR 42427
17.8.130 | Enforcement Procedures—Notice of Violation—Order to Take Corrective Action | 4/9/2004 | 1/24/2006 | 71 FR 3770
17.8.131 | Enforcement Procedures—Appeal to Board | 12/31/1972 | 8/13/2001 | 66 FR 42427
17.8.132 | Credible Evidence | 12/8/2000 | 11/20/2002 | 67 FR 70009
17.8.140 | Rehearing Procedures—Form and Filing of Petition | 12/31/1972 | 8/13/2001 | 66 FR 42427
17.8.141 | Rehearing Procedures—Filing Requirements | 12/31/1972 | 8/13/2001 | 66 FR 42427
17.8.142 | Rehearing Procedures—Board Review | 12/31/1972 | 8/13/2001 | 66 FR 42427
(ii) Administrative Rules of Montana, Subchapter 03, Emission Standards
17.8.301 | Definitions | 10/24/2008 | 1/29/2010 | 75 FR 4698
17.8.302 | Incorporation by Reference | 10/26/2007 | 1/26/2010 | 75 FR 3993
17.8.304 | Visible Air Contaminants | 8/11/1995 | 8/13/2001 | 66 FR 42427 | Excluding (4)(f).
17.8.308 | Particulate Matter, Airborne | 2/13/2009 | 1/29/2010 | 75 FR 4698
17.8.309 | Particulate Matter, Fuel Burning Equipment | 11/10/1995 | 8/13/2001 | 66 FR 42427 | Excluding (5)(b).
17.8.310 | Particulate Matter, Industrial Processes | 11/10/1995 | 8/13/2001 | 66 FR 42427 | Excluding (3)(e).
17.8.316 | Incinerators | 4/9/2004 | 7/29/2008 | 73 FR 43871
17.8.320 | Wood-waste Burners | 4/9/2004 | 1/24/2006 | 71 FR 3770
17.8.321 | Sulfur Emissions—Kraft Pulp Mills (16.8.1413) | 12/31/1972 | 7/18/1995 | 60 FR 36715 | * 16.8.1413 is the SIP approved Kraft Pulp Mill Rule. 17.8.321 is not SIP approved.
17.8.322 | Sulfur Oxide Emissions—Sulfur in Fuel | 12/31/1972 | 8/13/2001 | 66 FR 42427
17.8.324 | Hydrocarbon Emissions—Petroleum Products | 10/29/1993 | 8/13/2001 | 66 FR 42427 | Excluding (1)(c) and (2)(d).
17.8.325 | Motor Vehicles | 12/31/1972 | 8/13/2001 | 66 FR 42427
17.8.326 | Prohibited Materials for Wood or Coal Residential Stoves | 10/29/1993 | 8/13/2001 | 66 FR 42427
17.8.330 | Emission Standards for Existing Aluminum Plants—Definitions | 2/10/1989 | 8/13/2001 | 66 FR 42427
17.8.331 | Emission Standards for Existing Aluminum Plants—Standards | 2/26/1982 | 8/13/2001 | 66 FR 42427
17.8.332 | Emission Standards for Existing Aluminum Plants—Standard for Visible Emissions | 7/4/1996 | 8/13/2001 | 66 FR 42427
17.8.333 | Emission Standards for Existing Aluminum Plants—Monitoring and Reporting | 2/26/1982 | 8/13/2001 | 66 FR 42427
17.8.334 | Emission Standards for Existing Aluminum Plants—Startup and Shutdown | 2/26/1982 | 8/13/2001 | 66 FR 42427
(iii) Administrative Rules of Montana, Subchapter 04, Stack Heights and Dispersion Techniques
17.8.401 | Definitions [16.8.1204] | 6/13/1986 | 7/18/1995 | 60 FR 36715 | * 16.8.1204 is the SIP approved Stack Height and Dispersion Techniques rule. 17.8.401 is not SIP approved.
17.8.402 | Requirements [16.8.1205] | 6/13/1986 | 7/18/1995 | 60 FR 36715 | * 16.8.1205 is the SIP approved Stack Height and Dispersion Techniques rule. 17.8.402 is not SIP approved.
17.8.403 | Exemptions [16.8.1206] | 6/13/1986 | 7/18/1995 | 60 FR 36715 | * 16.8.1206 is the SIP approved Stack Height and Dispersion Techniques rule. 17.8.403 is not SIP approved.
(iv) Administrative Rules of Montana, Subchapter 06, Open Burning
17.8.601 | Definitions | 12/27/2002 | 8/24/2006 | 71 FR 49999
17.8.602 | Incorporation by Reference | 10/26/2007 | 1/26/2010 | 75 FR 3993
17.8.604 | Prohibited Open Burning—When Permit Required | 12/27/2002 | 8/24/2006 | 71 FR 49999 | Except (1)(a).
17.8.605 | Special Burning Periods | 12/27/2002 | 8/24/2006 | 71 FR 49999
17.8.606 | Minor Open Burning Source Requirements | 12/27/2002 | 8/24/2006 | 71 FR 49999
17.8.610 | Major Open Burning Source Restrictions | 12/27/2002 | 8/24/2006 | 71 FR 49999
17.8.611 | Emergency Open Burning Permits | 7/23/1999 | 8/13/2001 | 66 FR 42427
17.8.612 | Conditional Air Quality Open Burning Permits | 12/27/2002 | 8/24/2006 | 71 FR 49999
17.8.613 | Christmas Tree Waste Open Burning Permits | 7/23/1999 | 8/13/2001 | 66 FR 42427
17.8.614 | Commercial Film Production Open Burning Permits | 12/27/2002 | 8/24/2006 | 71 FR 49999
17.8.615 | Firefighter Training | 9/9/1994 | 8/13/2001 | 66 FR 42427
(v) Administrative Rules of Montana, Subchapter 07, Permit Construction and Operation of Air Contaminant Sources
17.8.740 | Definitions | 12/27/2002 | 11/21/2014 | 79 FR 69374
17.8.743 | Montana Air Quality Permits—When Required | 12/27/2002 | 11/21/2014 | 79 FR 69374 | Approved except the phrase in 17.8.743(1)(b) “asphalt concrete plants, mineral crushers, and”.
17.8.744 | Montana Air Quality Permits—General Exclusions | 12/27/2002 | 7/8/2011 | 76 FR 40237
17.8.745 | Montana Air Quality Permits—Exclusion for De Minimis Changes | 5/28/2010 | 2/13/2012 | 77 FR 7531
17.8.748 | New or Modified Emitting Units—Permit Application Requirements | 12/27/2002 | 7/8/2011 | 76 FR 40237
17.8.749 | Conditions For Issuance or Denial of Permit | 10/17/2003 | 7/8/2011 | 76 FR 40237 | (1), (3), (4), (5), (6), and (8) approved with state effective date of 12/27/02. (7) approved with state effective date of 10/17/03.
17.8.752 | Emission Control Requirements | 12/27/2002 | 7/8/2011 | 76 FR 40237
17.8.755 | Inspection of Permit | 12/27/2002 | 7/8/2011 | 76 FR 40237
17.8.756 | Compliance with Other Requirements | 12/27/2002 | 7/8/2011 | 76 FR 40237
17.8.759 | Review of Permit Applications | 12/23/2005 | 7/8/2011 | 76 FR 40237 | (1) through (3) approved with state effective date of 10/17/13. (4) through (6) approved with state effective date of 12/23/05.
17.8.760 | Additional Review of Permit Applications | 12/27/2002 | 7/8/2011 | 76 FR 40237
17.8.762 | Duration of Permit | 12/27/2002 | 7/8/2011 | 76 FR 40237
17.8.763 | Revocation of Permit | 10/17/2003 | 7/8/2011 | 76 FR 40237 | (1) and (4) approved with state effective date of 12/27/02. (2) and (3) approved with state effective date of 10/17/03.
17.8.764 | Administrative Amendment to Permit | 12/27/2002 | 11/21/2014 | 79 FR 69374
17.8.765 | Transfer of Permit | 12/27/2002 | 7/8/2011 | 76 FR 40237
17.8.767 | Incorporation by Reference | 6/17/2005 | 7/8/2011 | 76 FR 40237 | (1)(a) through (c) approved with state effective date of 12/27/02. (1)(d) through (g), (2), (3), and (4) approved with state effective date of 6/17/05.
(vi) Administrative Rules of Montana, Subchapter 08, Prevention of Significant Deterioration of Air Quality
17.8.801 | Definitions | 10/12/2012 | 1/29/2015 | 80 FR 4793
17.8.802 | Incorporation by Reference | 6/17/2005 | 7/19/2006 | 71 FR 40922
17.8.804 | Ambient Air Increments | 8/23/1996 | 8/13/2001 | 66 FR 42427
17.8.805 | Ambient Air Ceilings | 8/23/1996 | 8/13/2001 | 66 FR 42427
17.8.806 | Restrictions on Area Classifications | 8/23/1996 | 8/13/2001 | 66 FR 42427
17.8.807 | Exclusions from Increment Consumption | 8/23/1996 | 8/13/2001 | 66 FR 42427
17.8.808 | Redesignation | 8/23/1996 | 8/13/2001 | 66 FR 42427
17.8.809 | Stack Heights | 8/23/1996 | 8/13/2001 | 66 FR 42427
17.8.818 | Review of Major Stationary Source and Major Modifications—Source Applicability and Exemptions | 10/12/2012 | 1/29/2015 | 80 FR 4793
17.8.819 | Control Technology Review | 4/9/2004 | 1/24/2006 | 71 FR 3770
17.8.820 | Source Impact Analysis | 8/23/1996 | 8/13/2001 | 66 FR 42427
17.8.821 | Air Quality Models | 4/11/2003 | 1/24/2006 | 71 FR 3776
17.8.822 | Air Quality Analysis | 4/9/2004 | 1/24/2006 | 71 FR 3770
17.8.823 | Source Information | 8/23/1996 | 8/13/2001 | 66 FR 42427
17.8.824 | Additional Impact Analyses | 8/23/1996 | 8/13/2001 | 66 FR 42427
17.8.825 | Sources Impacting Federal Class I Areas—Additional Requirements | 12/27/2002 | 7/8/2011 | 76 FR 40237
17.8.826 | Public Participation | 12/27/2002 | 7/8/2011 | 76 FR 40237
17.8.827 | Source Obligation | 8/23/1996 | 8/13/2001 | 66 FR 42427
17.8.828 | Innovative Control Technology | 8/23/1996 | 8/13/2001 | 66 FR 42427
(vii) Administrative Rules of Montana, Subchapter 09, Permit Requirements for Major Stationary Sources or Major Modifications Locating Within Nonattainment Areas
17.8.901 | Definitions | 10/24/2008 | 1/29/2010 | 75 FR 4698
17.8.902 | Incorporation by Reference | 6/17/2005 | 7/19/2006 | 71 FR 40922
17.8.904 | When Air Quality Preconstruction Permit Required | 12/27/2002 | 7/8/2011 | 76 FR 40237
17.8.905 | Additional Conditions of Air Quality Preconstruction Permit | 4/11/2003 | 1/24/2006 | 71 FR 3776
17.8.906 | Baseline for Determining Credit for Emissions and Air Quality Offsets | 12/27/2002 | 7/7/2011 | 76 FR 40237
(viii) Administrative Rules of Montana, Subchapter 10, Preconstruction Permit Requirements for Major Stationary Sources or Major Modifications Locating Within Attainment or Unclassified Areas
17.8.1001 | Definitions | 8/23/1996 | 8/13/2001 | 66 FR 42427
17.8.1002 | Incorporation by Reference | 6/17/2005 | 7/19/2006 | 71 FR 40922
17.8.1004 | When Air Quality Preconstruction Permit Required | 12/27/2002 | 7/8/2011 | 76 FR 40237
17.8.1005 | Additional Conditions of Air Quality Pre-construction Permit | 12/27/2002 | 7/8/2011 | 76 FR 40237
17.8.1006 | Review of Specified Sources for Air Quality Impact | 8/23/1996 | 8/13/2001 | 66 FR 42427
17.8.1007 | Baseline for Determining Credit for Emissions and Air Quality Offsets | 10/24/2008 | 1/29/2010 | 75 FR 4698
(ix) Administrative Rules of Montana, Subchapter 11, Visibility Impact Assessment
17.8.1101 | Definitions | 8/23/1996 | 8/13/2001 | 66 FR 42427
17.8.1102 | Incorporation by Reference | 10/26/2007 | 1/26/2010 | 75 FR 3993
17.8.1103 | Applicability—Visibility Requirements | 8/23/1996 | 8/13/2001 | 66 FR 42427
17.8.1106 | Visibility Impact Analysis | 12/27/2002 | 7/8/2011 | 76 FR 40237
17.8.1107 | Visibility Models | 8/23/1996 | 8/13/2001 | 66 FR 42427
17.8.1108 | Notification of Permit Application | 8/23/1996 | 8/13/2001 | 66 FR 42427
17.8.1109 | Adverse Impact and Federal Land Manager | 12/27/2002 | 7/8/2011 | 76 FR 40237
17.8.1110 | Visibility Monitoring | 8/23/1996 | 8/13/2001 | 66 FR 42427
17.8.1111 | Additional Impact Analysis | 8/23/1996 | 8/13/2001 | 66 FR 42427
(x) Administrative Rules of Montana, Subchapter 13, Conformity
17.8.1301 | Definitions | 6/4/1999 | 9/21/2001 | 66 FR 48561
17.8.1304 | Determining Conformity of Transportation Plans, Programs, and Projects to State or Federal Implementation Plans | 8/23/1996 | 9/21/2001 | 66 FR 48561
17.8.1305 | Consultation Requirements: Applicability | 6/4/1999 | 9/21/2001 | 66 FR 48561
17.8.1306 | Consultation Procedures | 6/4/1999 | 9/21/2001 | 66 FR 48561
17.8.1310 | Special Issues | 6/4/1999 | 9/21/2001 | 66 FR 48561
17.8.1311 | Notice Requirements for Non-FHWA/FTA Projects | 6/4/1999 | 9/21/2001 | 66 FR 48561
17.8.1312 | Conflict Resolution | 6/4/1999 | 9/21/2001 | 66 FR 48561
17.8.1313 | Public Consultation Procedures | 6/4/1999 | 9/21/2001 | 66 FR 48561
(xi) Administrative Rules of Montana, Subchapter 14, Conformity of General Federal Actions
17.8.1401 | Definitions | 6/4/1999 | 10/7/2002 | 67 FR 62392
17.8.1402 | Incorporation By Reference | 6/4/1999 | 10/7/2002 | 67 FR 62392
(xii) Administrative Rules of Montana, Subchapter 16, Emission Control Requirements for Oil and Gas Well Facilities Operating Prior to Issuance of a Montana Air Quality Permit
17.8.1601 | Definitions | 1/1/2006 | 11/19/2013 | 78 FR 69296
17.8.1602 | Applicability and Coordination with Montana Air Quality Permit Rules | 1/1/2006 | 11/19/2013 | 78 FR 69296
17.8.1603 | Emission Control Requirements | 1/1/2006 | 11/19/2013 | 78 FR 69296
17.8.1604 | Inspection and Repair Requirements | 1/1/2006 | 11/19/2013 | 78 FR 69296
17.8.1605 | Recordkeeping Requirements | 1/1/2006 | 11/19/2013 | 78 FR 69296
17.8.1606 | Delayed Effective Date | 12/23/2005 | 11/19/2013 | 78 FR 69296
(xiii) Administrative Rules of Montana, Subchapter 17, Registration of Air Contaminant Sources
17.8.1701 | Definitions | 4/7/2006 | 11/19/2013 | 78 FR 69296
17.8.1702 | Applicability | 4/7/2006 | 11/19/2013 | 78 FR 69296
17.8.1703 | Registration Process and Information | 4/7/2006 | 11/19/2013 | 78 FR 69296
17.8.1704 | Registration Fee | 4/7/2006 | 11/19/2013 | 78 FR 69296
17.8.1705 | Operating Requirements: Facility-wide | 4/7/2006 | 11/19/2013 | 78 FR 69296
17.8.1710 | Oil or Gas Well Facilities General Requirements | 4/7/2006 | 11/19/2013 | 78 FR 69296
17.8.1711 | Oil or Gas Well Facilities Emission Control Requirements | 4/7/2006 | 11/19/2013 | 78 FR 69296
17.8.1712 | Oil or Gas Well Facilities Inspection and Repair Requirements | 4/7/2006 | 11/19/2013 | 78 FR 69296
17.8.1713 | Oil or Gas Well Facilities Recordkeeping and Reporting Requirements | 4/7/2006 | 11/19/2013 | 78 FR 69296
(2) County Specific
(i) Cascade County
7-01 | Definitions | 10/16/2000 | 6/12/2001 | 66 FR 31548
7-02 | Prohibited Open Burning—When Permit Required | 10/16/2000 | 6/12/2001 | 66 FR 31548
7-03 | Minor Open Burning Source Requirements | 10/16/2000 | 6/12/2001 | 66 FR 31548
7-04 | Major Open Burning Source Restrictions | 10/16/2000 | 6/12/2001 | 66 FR 31548
7-05 | Special Burning Periods | 10/16/2000 | 6/12/2001 | 66 FR 31548
7-06 | Firefighting Training | 10/16/2000 | 6/12/2001 | 66 FR 31548
7-07 | Conditional Air Quality Open Burning Permits | 10/16/2000 | 6/12/2001 | 66 FR 31548
7-08 | Emergency Open Burning Permits | 10/16/2000 | 6/12/2001 | 66 FR 31548
7-09 | Commercial Film Production Open Burning Permits | 10/16/2000 | 6/12/2001 | 66 FR 31548
7-10 | Fees | 10/16/2000 | 6/12/2001 | 66 FR 31548
(ii) Flathead County
| Table of Contents, Flathead County Air Pollution Control Program Regulations
Appendix A | Kalispell Air Pollution Control District Map | 5/20/1994 | 3/19/1996 | 61 FR 11153
Appendix B | Kalispell Air Pollution Control District Description | 5/20/1994 | 3/19/1996 | 61 FR 11153
Chapter 01 | Short Title | 5/20/1994 | 3/19/1996 | 61 FR 11153
Chapter 02 | Declaration of Policy and Purpose | 5/20/1994 | 3/19/1996 | 61 FR 11153
Chapter 03 | Authorities for Program | 5/20/1994 | 3/19/1996 | 61 FR 11153
Chapter 04 | Administration | 5/20/1994 | 3/19/1996 | 61 FR 11153
Chapter 05 | Control Board, Meetings-Duties-Policies | 5/20/1994 | 3/19/1996 | 61 FR 11153
Chapter 06 | Air Quality Staff | 5/20/1994 | 3/19/1996 | 61 FR 11153
Chapter 07 | Inspections | 5/20/1994 | 3/19/1996 | 61 FR 11153
Chapter 08, Sub-Chapter 1 | General Definitions | 5/20/1994 | 3/19/1996 | 61 FR 11153
Chapter 08, Rule 201 | Definitions | 5/20/1994 | 3/19/1996 | 61 FR 11153
Chapter 08, Rule 202 | Materials Prohibited | 5/20/1994 | 3/19/1996 | 61 FR 11153
Chapter 08, Rule 203 | Minor Open Burning Source Requirements | 5/20/1994 | 3/19/1996 | 61 FR 11153
Chapter 08, Rule 204 | Major Open Burning Source Requirements | 5/20/1994 | 3/19/1996 | 61 FR 11153
Chapter 08, Rule 205 | Special Open Burning Periods | 5/20/1994 | 3/19/1996 | 61 FR 11153
Chapter 08, Rule 206 | Fire Fighter Training | 5/20/1994 | 3/19/1996 | 61 FR 11153
Chapter 08, Rule 207 | Open Burning Disposal of Christmas Tree Waste | 5/20/1994 | 3/19/1996 | 61 FR 11153
Chapter 08, Rule 208 | Conditional Air Quality Open Burning Permits | 5/20/1994 | 3/19/1996 | 61 FR 11153
Chapter 08, Rule 209 | Emergency Open Burning Permits | 5/20/1994 | 3/19/1996 | 61 FR 11153
Chapter 08, Rule 210 | Permit Fees | 5/20/1994 | 3/19/1996 | 61 FR 11153
Chapter 08, Sub-Chapter 3 | Voluntary Solid Fuel Burning Device Curtailment Program | 5/20/1994 | 3/19/1996 | 61 FR 11153
Chapter 08, Rule 401 | Prohibited Materials for Wood or Coal residential (Solid Fuel Burning Device) Stoves | 5/20/1994 | 3/19/1996 | 61 FR 11153
Chapter 08, Sub-Chapter 5 | Kalispell Air Pollution Control District, Intent | 5/20/1994 | 3/19/1996 | 61 FR 11153
Chapter 08, Rule 501 | Material To Be Used on Roads and Parking Lots-Standards | 5/20/1994 | 3/19/1996 | 61 FR 11153
Chapter 08, Rule 502 | Construction and Demolition Activity | 5/20/1994 | 3/19/1996 | 61 FR 11153
Chapter 08, Rule 503 | Pavement of Roads Required | 5/20/1994 | 3/19/1996 | 61 FR 11153
Chapter 08, Rule 504 | Pavement of Parking Lots Required | 5/20/1994 | 3/19/1996 | 61 FR 11153
Chapter 08, Rule 505 | Street Sweeping and Flushing | 5/20/1994 | 3/19/1996 | 61 FR 11153
Chapter 08, Rule 506 | Clearing of land greater than ¼ acre in size | 5/20/1994 | 3/19/1996 | 61 FR 11153
Chapter 08, Rule 507 | Contingency Plan | 5/20/1994 | 3/19/1996 | 61 FR 11153
Chapter 08, Sub-Chapter 6 | Columbia Falls Air Pollution Control District—Intent | 5/20/1994 | 3/19/1996 | 61 FR 11153
Chapter 08, Rule 601 | Material To Be Used on Roads and Parking Lots-Standards | 5/20/1994 | 3/19/1996 | 61 FR 11153
Chapter 08, Rule 602 | Construction and Demolition Activity | 5/20/1994 | 3/19/1996 | 61 FR 11153
Chapter 08; Sub-Chapter 6, Rule 603 | Pavement of Roads Required | 5/20/1994 | 3/19/1996 | 61 FR 11153
Chapter 08, Rule 604 | Pavement of Parking Lots Required | 5/20/1994 | 3/19/1996 | 61 FR 11153
Chapter 08, Rule 605 | Street Sweeping and Flushing | 5/20/1994 | 3/19/1996 | 61 FR 11153
Chapter 08, Rule 606 | Clearing of land greater than ¼ acre in size | 5/20/1994 | 3/19/1996 | 61 FR 11153
Chapter 08, Rule 607 | Contingency Plan | 5/20/1994 | 3/19/1996 | 61 FR 11153
Chapter 09 | Enforcement, Judicial Review, and Hearings | 5/20/1994 | 3/19/1996 | 61 FR 11153
Chapter 10 | Civil Penalties | 5/20/1994 | 3/19/1996 | 61 FR 11153
Chapter 11 | Severability Clause | 5/20/1994 | 3/19/1996 | 61 FR 11153
Chapter 12 | Amendments and Revisions | 5/20/1994 | 3/19/1996 | 61 FR 11153
(iii) Lincoln County
75.1.101 | Intent | 2/1/1996 | 9/30/1996 | 61 FR 51014
75.1.102 | Definitions | 2/1/1996 | 9/30/1996 | 61 FR 51014
75.1.103 | Selection & Implementation of Contingency Measure Programs | 2/1/1996 | 9/30/1996 | 61 FR 51014
75.1.201 | Intent | 2/1/1996 | 9/30/1996 | 61 FR 51014
75.1.202 | Definitions | 2/1/1996 | 9/30/1996 | 61 FR 51014
75.1.204 | Emission Limits | 2/1/1996 | 9/30/1996 | 61 FR 51014
75.1.205 | Issuance of Air Pollution Alert | 2/1/1996 | 9/30/1996 | 61 FR 51014
75.1.206 | Permits | 2/1/1996 | 9/30/1996 | 61 FR 51014
75.1.207 | Prohibited Materials | 2/1/1996 | 9/30/1996 | 61 FR 51014
75.1.209 | Enforceability | 2/1/1996 | 9/30/1996 | 61 FR 51014
75.1.301 | Intent: Road Dust Control Regulations: Materials to Be used on Roads and Parking Lots | 2/1/1996 | 9/30/1996 | 61 FR 51014
75.1.302 | Definitions | 2/1/1996 | 9/30/1996 | 61 FR 51014
75.1.303 | Emission Limits | 2/1/1996 | 9/30/1996 | 61 FR 51014
75.1.401 | Definitions, Street Sweeping and Flushing | 2/1/1996 | 9/30/1996 | 61 FR 51014
75.1.402 | Emission Limits | 2/1/1996 | 9/30/1996 | 61 FR 51014
75.1.501 | Emission Limits, Dust Control for Log Yards | 2/1/1996 | 9/30/1996 | 61 FR 51014
75.1.601 | Intent, Limiting the Application of Sanding Material | 2/1/1996 | 9/30/1996 | 61 FR 51014
75.1.602 | Application Limits | 2/1/1996 | 9/30/1996 | 61 FR 51014
75.1.603 | Resolution | 2/1/1996 | 9/30/1996 | 61 FR 51014
75.1.701 | Intent, Open Burning Regulations: Management of Open Burning | 2/1/1996 | 9/30/1996 | 61 FR 51014
75.1.702 | Definitions | 2/1/1996 | 9/30/1996 | 61 FR 51014
75.1.703 | Open Burning Control Areas | 2/1/1996 | 9/30/1996 | 61 FR 51014
75.1.704 | Materials Prohibited | 2/1/1996 | 9/30/1996 | 61 FR 51014
75.1.705 | General Open Burning Regulations | 2/1/1996 | 9/30/1996 | 61 FR 51014
75.1.706 | Minor Open Burning Source Requirements | 2/1/1996 | 9/30/1996 | 61 FR 51014
75.1.707 | Major Open Burning Source Requirements | 2/1/1996 | 9/30/1996 | 61 FR 51014
75.1.708 | Trade Waste Burning Requirements | 2/1/1996 | 9/30/1996 | 61 FR 51014
75.1.709 | Licensed Landfill Requirements | 2/1/1996 | 9/30/1996 | 61 FR 51014
75.1.710 | Firefighter Training | 2/1/1996 | 9/30/1996 | 61 FR 51014
75.1.711 | Special Burning Periods | 2/1/1996 | 9/30/1996 | 61 FR 51014
75.1.712 | Open Burning Permit Requirements & Local Restrictions | 2/1/1996 | 9/30/1996 | 61 FR 51014
75.1.713 | Conditional Air Quality Open Burning Permits | 2/1/1996 | 9/30/1996 | 61 FR 51014
75.1.714 | Emergency Open Burning Permits | 2/1/1996 | 9/30/1996 | 61 FR 51014
75.1.715 | Christmas Tree Waste Open Burning Permits | 2/1/1996 | 9/30/1996 | 61 FR 51014
75.1.716 | Commercial Film Production Open Burning Permits | 2/1/1996 | 9/30/1996 | 61 FR 51014
75.1.717 | Prohibited Acts | 2/1/1996 | 9/30/1996 | 61 FR 51014
75.1.718 | Penalties | 2/1/1996 | 9/30/1996 | 61 FR 51014
75.1.719 | Conflict of Ordinances, Effect of Partial Invalidity | 2/1/1996 | 9/30/1996 | 61 FR 51014
Ordinances, 1470 | Ordinance | 3/19/1993 | 8/30/1994 | 59 FR 44627
Ordinances, 1507 | Ordinance | 2/1/96 | 9/30/96 | 61 FR 51014
1660 Resolution | Lincoln County Health and Environment Regulations | 3/23/2006 | 3/17/2011 | 76 FR 14584
(iv) Missoula County
1.101 | Program Authority and Administration | 11/17/2000 | 11/15/2001 | 66 FR 57391
1.102 | Declaration of policy and purpose | 11/17/2000 | 11/15/2001 | 66 FR 57391
1.103 | Authorities for program | 11/17/2000 | 11/15/2001 | 66 FR 57391
1.104 | Area of jurisdiction | 11/17/2000 | 11/15/2001 | 66 FR 57391
1.105 | Air pollution control board | 11/17/2000 | 11/15/2001 | 66 FR 57391
1.106 | Air quality staff | 11/17/2000 | 11/15/2001 | 66 FR 57391
1.107 | Air quality advisory council | 11/17/2000 | 11/15/2001 | 66 FR 57391
2.101 | Definitions | 11/17/2000 | 11/15/2001 | 66 FR 57391
3.101 | Purpose | 11/17/2000 | 11/15/2001 | 66 FR 57391
3.102 | Particulate matter contingency measures | 11/17/2000 | 11/15/2001 | 66 FR 57391
3.103 | Carbon monoxide contingency measures | 11/17/2000 | 11/15/2001 | 66 FR 57391
3.104 | Early implementation of contingency measures | 11/17/2000 | 11/15/2001 | 66 FR 57391
4.101 | Purpose | 11/17/2000 | 11/15/2001 | 66 FR 57391
4.102 | Applicability | 11/17/2000 | 11/15/2001 | 66 FR 57391
4.103 | General provisions | 11/17/2000 | 11/15/2001 | 66 FR 57391
4.104 | Air pollution control stages | 11/17/2000 | 11/15/2001 | 66 FR 57391
4.105 | Emergency operations | 11/17/2000 | 11/15/2001 | 66 FR 57391
4.106 | Abatement plan for certain sources | 11/17/2000 | 11/15/2001 | 66 FR 57391
4.107 | Enforcement procedure | 11/17/2000 | 11/15/2001 | 66 FR 57391
4.108 | Stage I alert control activities | 11/17/2000 | 11/15/2001 | 66 FR 57391
4.109 | Stage II warning control activities | 11/17/2000 | 11/15/2001 | 66 FR 57391
4.110 | State III emergency control activities | 11/17/2000 | 11/15/2001 | 66 FR 57391
4.111 | Stage IV crisis control activities | 11/17/2000 | 11/15/2001 | 66 FR 57391
4.112 | Contingency measure | 11/17/2000 | 11/15/2001 | 66 FR 57391
5.101 | Inspections | 11/17/2000 | 11/15/2001 | 66 FR 57391
5.102 | Testing requirements | 11/17/2000 | 11/15/2001 | 66 FR 57391
5.103 | Malfunctions | 11/17/2000 | 11/15/2001 | 66 FR 57391
5.105 | Circumvention | 11/17/2000 | 11/15/2001 | 66 FR 57391
5.106 | Public nuisance | 11/17/2000 | 11/15/2001 | 66 FR 57391
5.112 | Compliance with other statutes and rules | 11/17/2000 | 11/15/2001 | 66 FR 57391
6.101 | Definitions | 11/17/2000 | 11/15/2001 | 66 FR 57391
6.102 | Air quality permits required | 11/17/2000 | 11/15/2001 | 66 FR 57391
6.103 | General conditions | 11/17/2000 | 11/15/2001 | 66 FR 57391
6.105 | Air quality permit application requirements | 11/17/2000 | 11/15/2001 | 66 FR 57391
6.106 | Public review of air quality permit application | 11/17/2000 | 11/15/2001 | 66 FR 57391
6.107 | Issuance or denial of an air quality permit | 11/17/2000 | 11/15/2001 | 66 FR 57391
6.108 | Revocation of modification of an air quality permit | 11/17/2000 | 11/15/2001 | 66 FR 57391
6.109 | Transfer of permit | 11/17/2000 | 11/15/2001 | 66 FR 57391
6.501 | Emission control requirements | 11/17/2000 | 11/15/2001 | 66 FR 57391
6.502 | Particulate matter from fuel burning equipment | 11/17/2000 | 11/15/2001 | 66 FR 57391
6.503 | Particulate matter from industrial processes | 11/17/2000 | 11/15/2001 | 66 FR 57391
6.504 | Visible air pollutants | 11/17/2000 | 11/15/2001 | 66 FR 57391
6.601 | Minimum standards | 11/17/2000 | 11/15/2001 | 66 FR 57391
6.602 | Hours of operation | 11/17/2000 | 11/15/2001 | 66 FR 57391
6.603 | Performance tests | 11/17/2000 | 11/15/2001 | 66 FR 57391
6.604 | Hazardous waste incinerators | 11/17/2000 | 11/15/2001 | 66 FR 57391
6.701 | Opacity limits | 11/17/2000 | 11/15/2001 | 66 FR 57391
6.702 | Operation | 11/17/2000 | 11/15/2001 | 66 FR 57391
6.703 | Fuels | 11/17/2000 | 11/15/2001 | 66 FR 57391
7.101 | Definitions | 11/17/2000 | 11/15/2001 | 66 FR 57391
7.102 | Outdoor burning permits required | 11/17/2000 | 11/15/2001 | 66 FR 57391
7.103 | Materials prohibited | 11/17/2000 | 11/15/2001 | 66 FR 57391
7.104 | Burning seasons | 11/17/2000 | 11/15/2001 | 66 FR 57391
7.105 | Restricted areas | 11/17/2000 | 11/15/2001 | 66 FR 57391
7.106 | Minor outdoor burning source requirements | 11/17/2000 | 11/15/2001 | 66 FR 57391
7.107 | Major outdoor burning source requirements | 11/17/2000 | 11/15/2001 | 66 FR 57391
7.108 | Bonfire permits | 11/17/2000 | 11/15/2001 | 66 FR 57391
7.109 | Fire fighter training permits | 11/17/2000 | 11/15/2001 | 66 FR 57391
7.110 | Conditional outdoor burning permits | 11/17/2000 | 11/15/2001 | 66 FR 57391
7.111 | Christmas tree waste outdoor burning permits | 11/17/2000 | 11/15/2001 | 66 FR 57391
7.112 | Emergency outdoor burning permits | 11/17/2000 | 11/15/2001 | 66 FR 57391
7.113 | Commercial film production outdoor burning permits | 11/17/2000 | 11/15/2001 | 66 FR 57391
7.114 | Public notice | 11/17/2000 | 11/15/2001 | 66 FR 57391
7.115 | Outdoor burning permitting actions | 11/17/2000 | 11/15/2001 | 66 FR 57391
8.101 | Definitions | 11/17/2000 | 11/15/2001 | 66 FR 57391
8.102 | General requirements | 11/17/2000 | 11/15/2001 | 66 FR 57391
8.103 | Stationary source requirements | 11/17/2000 | 11/15/2001 | 66 FR 57391
8.104 | Construction sites | 11/17/2000 | 11/15/2001 | 66 FR 57391
8.105 | Agricultural exemption | 11/17/2000 | 11/15/2001 | 66 FR 57391
8.201 | Permits required | 11/17/2000 | 11/15/2001 | 66 FR 57391
8.202 | New roads in the air stagnation zone | 11/17/2000 | 11/15/2001 | 66 FR 57391
8.203 | New parking areas in the air stagnation zone | 11/17/2000 | 11/15/2001 | 66 FR 57391
8.204 | New driveways in the air stagnation zone | 11/17/2000 | 11/15/2001 | 66 FR 57391
8.205 | Unpaved access roads | 11/17/2000 | 11/15/2001 | 66 FR 57391
8.206 | Maintenance of pavement required | 11/17/2000 | 11/15/2001 | 66 FR 57391
8.207 | Paving existing facilities in the air stagnation zone | 11/17/2000 | 11/15/2001 | 66 FR 57391
8.301 | Deicer required | 11/17/2000 | 11/15/2001 | 66 FR 57391
8.302 | Durability requirements | 11/17/2000 | 11/15/2001 | 66 FR 57391
8.303 | Street sweeping requirements | 11/17/2000 | 11/15/2001 | 66 FR 57391
8.304 | Contingency measures | 11/17/2000 | 11/15/2001 | 66 FR 57391
9.101 | Intent | 11/17/2000 | 11/15/2001 | 66 FR 57391
9.102 | Definitions | 11/17/2000 | 11/15/2001 | 66 FR 57391
9.103 | Applicability | 11/17/2000 | 11/15/2001 | 66 FR 57391
9.104 | Fuels | 11/17/2000 | 11/15/2001 | 66 FR 57391
9.105 | Non-alert visible emission standards | 11/17/2000 | 11/15/2001 | 66 FR 57391
9.106 | Prohibition of visible emissions during air pollution alerts and warnings | 11/17/2000 | 11/15/2001 | 66 FR 57391
9.107 | Emissions certification | 11/17/2000 | 11/15/2001 | 66 FR 57391
9.108 | New solid fuel burning devices prohibited | 11/17/2000 | 11/15/2001 | 66 FR 57391
9.109 | Sale of new solid fuel burning devices | 11/17/2000 | 11/15/2001 | 66 FR 57391
9.110 | Installation permits | 11/17/2000 | 11/15/2001 | 66 FR 57391
9.111 | Alert permits | 11/17/2000 | 11/15/2001 | 66 FR 57391
9.112 | Sole source permits | 11/17/2000 | 11/15/2001 | 66 FR 57391
9.113 | Special need permits | 11/17/2000 | 11/15/2001 | 66 FR 57391
9.114 | Temporary sole source permit | 11/17/2000 | 11/15/2001 | 66 FR 57391
9.115 | Permit application requirements | 11/17/2000 | 11/15/2001 | 66 FR 57391
9.116 | Revocation or modification of permit | 11/17/2000 | 11/15/2001 | 66 FR 57391
9.117 | Transfer of permit | 11/17/2000 | 11/15/2001 | 66 FR 57391
9.118 | Removal of solid fuel burning devices upon sale of the property | 11/17/2000 | 11/15/2001 | 66 FR 57391
9.119 | Contingency measures | 11/17/2000 | 11/15/2001 | 66 FR 57391
10.101 | Intent | 11/17/2000 | 11/15/2001 | 66 FR 57391
10.102 | Definitions | 11/17/2000 | 11/15/2001 | 66 FR 57391
10.103 | Oxygenated fuel required | 11/17/2000 | 11/15/2001 | 66 FR 57391
10.104 | Labeling gasoline pumps | 11/17/2000 | 11/15/2001 | 66 FR 57391
10.105 | Oxygenate blending facility requirements | 11/17/2000 | 11/15/2001 | 66 FR 57391
10.106 | Distributor requirements | 11/17/2000 | 11/15/2001 | 66 FR 57391
10.107 | Fueling facility operator requirements | 11/17/2000 | 11/15/2001 | 66 FR 57391
10.108 | Inability to produce oxygenated fuel in extraordinary circumstances | 11/17/2000 | 11/15/2001 | 66 FR 57391
10.109 | Registration fees | 11/17/2000 | 11/15/2001 | 66 FR 57391
10.110 | Contingency measure | 11/17/2000 | 11/15/2001 | 66 FR 57391
10.201 | Regulation of sulfur in fuel | 11/17/2000 | 11/15/2001 | 66 FR 57391
10.202 | Regulation of sulfur in fuel burned within the air stagnation zone | 11/17/2000 | 11/15/2001 | 66 FR 57391
10.203 | Labeling requirements | 11/17/2000 | 11/15/2001 | 66 FR 57391
10.301 | Containers with more than 65,000 gallon capacity | 11/17/2000 | 11/15/2001 | 66 FR 57391
10.302 | Oil-effluent water separators | 11/17/2000 | 11/15/2001 | 66 FR 57391
10.303 | Loading gasoline | 11/17/2000 | 11/15/2001 | 66 FR 57391
10.304 | Exemptions | 11/17/2000 | 11/15/2001 | 66 FR 57391
11.101 | Removal of control devices | 11/17/2000 | 11/15/2001 | 66 FR 57391
11.102 | Operation of motor vehicles | 11/17/2000 | 11/15/2001 | 66 FR 57391
11.103 | Four-cycle gasoline powered vehicles | 11/17/2000 | 11/15/2001 | 66 FR 57391
14.101 | Notice of violation | 11/17/2000 | 11/15/2001 | 66 FR 57391
14.102 | Order to take corrective action | 11/17/2000 | 11/15/2001 | 66 FR 57391
14.103 | Appearance before the control board | 11/17/2000 | 11/15/2001 | 66 FR 57391
14.104 | Other remedies | 11/17/2000 | 11/15/2001 | 66 FR 57391
14.105 | Credible evidence | 11/17/2000 | 11/15/2001 | 66 FR 57391
14.106 | Administrative review | 11/17/2000 | 11/15/2001 | 66 FR 57391
14.107 | Control board hearings | 11/17/2000 | 11/15/2001 | 66 FR 57391
14.108 | Judicial review | 11/17/2000 | 11/15/2001 | 66 FR 57391
15.101 | General provisions | 11/17/2000 | 11/15/2001 | 66 FR 57391
15.102 | Criminal penalties | 11/17/2000 | 11/15/2001 | 66 FR 57391
15.103 | Civil penalties | 11/17/2000 | 11/15/2001 | 66 FR 57391
15.104 | Solid fuel burning device penalties | 11/17/2000 | 11/15/2001 | 66 FR 57391
15.105 | Non-compliance penalties | 11/17/2000 | 11/15/2001 | 66 FR 57391
Appendix A | Maps | 11/17/2000 | 11/15/2001 | 66 FR 57391
Appendix B | Missoula's Emergency Episode Avoidance Plan | 11/17/2000 | 11/15/2001 | 66 FR 57391
Appendix D | Oxygenated fuels program sampling requirements for blending facilities | 11/17/2000 | 11/15/2001 | 66 FR 57391
List of Acronyms | List of Acronyms | 11/17/2000 | 11/15/2001 | 66 FR 57391
| Missoula City County Air Pollution Control Program Regulations, Table of Contents, Acronyms and Appendices, Table of Contents
(v) Yellowstone
Regulation 002—Open Burning, A | Definitions | 9/24/1999 | 8/13/2001 | 66 FR 42427
Regulation 002—Open Burning, B | Incorporation by Reference | 9/24/1999 | 8/13/2001 | 66 FR 42427
Regulation 002—Open Burning, C | Prohibited Open Burning—When Permit Required | 9/24/1999 | 8/13/2001 | 66 FR 42427
Regulation 002—Open Burning, D | Minor Open Burning Source Restriction | 9/24/1999 | 8/13/2001 | 66 FR 42427
Regulation 002—Open Burning, E | Major Open Burning Source Restriction | 9/24/1999 | 8/13/2001 | 66 FR 42427
Regulation 002—Open Burning, F | Special Burning Periods | 9/24/1999 | 8/13/2001 | 66 FR 42427
Regulation 002—Open Burning, G | Fire Fighter Training | 9/24/1999 | 8/13/2001 | 66 FR 42427
Regulation 002—Open Burning, H | Conditional Air Quality Open Burning Permits | 6/7/2002 | 11/5/2003 | 68 FR 62529
Regulation 002—Open Burning, I | Emergency Open Burning Permits | 9/24/1999 | 8/13/2001 | 66 FR 42427
Regulation 002—Open Burning, J | Commercial Film Production Open Burning | 9/24/1999 | 8/13/2001 | 66 FR 42427
Regulation 002—Open Burning, K | Fees | 9/24/1999 | 8/13/2001 | 66 FR 42427

(d) EPA-approved source-specific requirements.

Title/subject | State effective date | Notice of final rule date | NFR citation
(1) Cascade County
1985 December 5 Stipulation and 1985 October 20 Permit for Montana Refining Company. In the matter of the Montana Refining Company, Cascade County; compliance with ARM 16.8.811, ambient air quality standard for carbon monoxide | 12/5/1985 | 9/7/1990 | 55 FR 36812
(2) Deer Lodge County
1978 November 16 Order for Anaconda Copper Smelter. In the Matter of the Petition of the Department of Health and Environmental Sciences for an Order adopting a Sulfur Oxides Control Strategy for the Anaconda Copper Smelter at Anaconda, Montana, and requiring the Anaconda Company to comply with the Control Strategy | 11/16/1978 | 1/10/1980 | 45 FR 2034
(3) Flathead County
Air Quality Permit #2667-M, Dated 1/24/92. Plum Creek Manufacturing, Inc | 1/24/1992 | 4/14/1994 | 59 FR 17700
Stipulation—A-1 Paving, In the Matter of Compliance of A-1 Paving, Kalispell, Montana | 9/17/1993 | 3/19/1996 | 61 FR 11153
Stipulation—Equity Supply Company, In the Matter of Compliance of Equity Supply Company | 9/17/1993 | 3/19/1996 | 61 FR 11153
Stipulation—Flathead Road Department #1, In the Matter of Compliance of Flathead Road Department, Kalispell, Montana | 9/17/1993 | 3/19/1996 | 61 FR 11153
Stipulation—Flathead Road Department #2, In the Matter of Compliance of Flathead Road Department, Kalispell, Montana | 9/17/1993 | 3/19/1996 | 61 FR 11153.
Stipulation—Klingler Lumber Company, In the Matter of Compliance of Klinger Lumber Company, Inc., Kalispell, Montana | 9/17/1993 | 3/19/1996 | 61 FR 11153
Stipulation—McElroy & Wilkens, In the Matter of Compliance of McElroy and Wilkens, Inc., Kalispell, Montana | 9/17/1993 | 3/19/1996 | 61 FR 11153
Stipulation—Montana Mokko, In the Matter of Compliance of Montana Mokko, Kalispell, Montana | 9/17/1993 | 3/19/1996 | 61 FR 11153
Stipulation—Pack and Company, In the Matter of Compliance of Pack and Company, Inc., Kalispell, Montana | 9/7/1993 | 3/19/1996 | 61 FR 11153
Stipulation—Pack Concrete, In the Matter of Compliance of Pack Concrete, Inc., Kalispell, Montana | 9/17/1993 | 3/19/1996 | 61 FR 11153
Stipulation—Plum Creek, In the Matter of Compliance of Plum Creek Manufacturing, L.P., Kalispell, Montana | 9/17/1993 | 3/19/1996 | 61 FR 11153
(4) Lewis and Clark County
Total Suspended Particulate NAAQS—East Helena, ASARCO Application for Revisions of Montana State Air Quality Control Implementation Plan—Only as it applies to Total Suspended Particulate | 4/24/1979 | 1/10/1980 | 45 FR 2034
Sulfur Dioxide NAAQS—Board Orders, Stipulations, Exhibits, and Attachments, Asarco Stipulation—1994 March 15 | 3/15/1994 | 1/27/1995 | 60 FR 5313
Sulfur Dioxide NAAQS—Board Orders, Stipulations, Exhibits, and Attachments, Exhibit A—Asarco Emission Limitations and Conditions, Asarco Incorporated, East Helena, Montana | 3/15/1994 | 1/27/1995 | 60 FR 5313
Asarco Board Order—1994 March 18. In the Matter of the Application of the Department of Health and Environmental Sciences for Revision of the Montana State Air Quality Control Implementation Plan Relating to Control of Sulfur Dioxide Emissions from the Lead Smelter Located at East Helena, Montana, owned and operated by Asarco Incorporated | 3/18/1994 | 1/27/1995 | 60 FR 5313
Lead NAAQS—Board Orders, Stipulations, Exhibits, and Attachments, American Chemet Stipulation—1995 June 30 | 6/30/1995 | 6/18/2001 | 66 FR 32760
Lead NAAQS—Board Orders, Stipulations, Exhibits, and Attachments, American Chemet Board Order—1995 August 4 | 8/4/1995 | 6/18/2001 | 66 FR 32760
Lead NAAQS—Board Orders, Stipulations, Exhibits, and Attachments, Exhibit A—American Chemet Emission Limitations and Conditions, American Chemet Corporation, East Helena, Montana | 8/4/1995 | 6/18/2001 | 66 FR 32760
Lead NAAQS—Board Orders, Stipulations, Exhibits, and Attachments, Asarco Stipulation—1996 June 11 | 6/11/1996 | 6/18/2001 | 66 FR 32760
Lead NAAQS—Board Orders, Stipulations, Exhibits, and Attachments, Asarco Board Order—1996 June 26 | 6/26/1996 | 6/18/2001 | 66 FR 32760
Lead NAAQS—Board Orders, Stipulations, Exhibits, and Attachments, Exhibit A—Asarco Emission Limitations and Conditions with attachments 1-7, Asarco Lead Smelter, East Helena, Montana | 6/26/1996 | 6/18/2001 | 66 FR 32760
Lead NAAQS—Board Orders, Stipulations, Exhibits, and Attachments, Asarco Stipulation—1998 August 13 | 8/28/1998 | 6/18/2001 | 66 FR 32760
Lead NAAQS—Board Orders, Stipulations, Exhibits, and Attachments, Asarco Board Order—1998 August 28 | 8/28/1998 | 6/18/2001 | 66 FR 32760
Lead NAAQS—Board Orders, Stipulations, Exhibits, and Attachments, Asarco Stipulation—2000 July 18 | 9/15/2000 | 6/18/2001 | 66 FR 32767
Lead NAAQS—Board Orders, Stipulations, Exhibits, and Attachments, Asarco Board Order—2000 September 15 | 9/15/2000 | 6/18/2001 | 66 FR 32767
(5) Lincoln County
Board Order—1994 December 16 (Stimson Lumber). In the Matter of Compliance of Stimson Lumber Company, Libby, Montana | 12/16/1994 | 9/30/1996 | 61 FR 51014
Air Quality Permit #2627-M Dated 7/25/91. Stimson Lumber Company (formerly Champion International Corp) | 3/19/1993 | 8/30/1994 | 59 FR 44627
Stipulation—Stimson Lumber. In the Matter of Compliance of Stimson Lumber Company, Libby, Montana | 12/16/1994 | 9/30/1996 | 61 FR 51014
(6) Missoula County
Air Quality Permit #2303M, Dated 3/20/92. Louisiana-Pacific Corporation | 3/20/1992 | 1/18/1994 | 59 FR 2537
Air Quality Permit #2589M, Dated 1/23/92. Stone Container Corporation | 1/24/1992 | 1/18/1994 | 59 FR 2537
(7) Rosebud County
1980 October 22 Permit for Western Energy Company. | 10/22/1980 | 4/26/1985 | 50 FR 16475
(8) Silver Bow County
Air Quality Permit #1636-06 dated 8/22/96. Rhone-Poulenc Basic Chemicals Company | 8/22/1996 | 12/6/1999 | 64 FR 68034
Air Quality Permit #1749-05 dated 1/5/94. Montana Resources, Inc | 1/5/1994 | 3/22/1995 | 60 FR 15056
(9) Yellowstone County
Cenex June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168
Cenex June 12, 1998 Exhibit A (with 3/17/00 Revisions) Emission Limitations and Other Conditions | 3/17/2000 | 5/22/2003 | 68 FR 27908
Cenex March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908
Conoco June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168
Conoco June 12, 1998 Exhibit A. Emission Limitations and Other Conditions | 6/12/1998 | 5/2/2002 | 67 FR 22168
Exxon June 12, 1998 Board Order and Stipulation. In the Matter of the Application of the Department of Health and Environmental Sciences for Revision of the Montana State Air Quality Control Implementation Plan Relating to Control of Sulfur Dioxide Emissions in the Billings/Laurel Area | 6/12/1998 | 5/2/2002 | 67 FR 22168
Exxon June 12, 1998 Exhibit A (with 3/17/00 Revisions). Emission Limitations and Other Conditions | 3/17/2000 | 5/22/2003 | 68 FR 27908
Exxon March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908
Montana Power June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168
Montana Power June 12, 1998 Exhibit A, Emission Limitations and Conditions | 6/12/1998 | 5/2/2002 | 67 FR 22168
Montana Sulphur & Chemical Company June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168
Montana Sulphur & Chemical Company June 12, 1998 Exhibit A. Emission Limitations and Other Conditions | 6/12/1998 | 5/2/2002 | 67 FR 22168
Western Sugar June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Western Sugar June 12, 1998 Exhibit A. Emission Limitations and Other Conditions | 6/12/1998 | 5/2/2002 | 67 FR 22168
Yellowstone Energy Limited Partnership June 12, 1998 Board Order and Stipulation. In the Matter of the Application of the Department of Health and Environmental Sciences for Revision of the Montana State Air Quality Control Implementation Plan Relating to Control of Sulfur Dioxide Emissions in the Billings/Laurel Area | 6/12/1998 | 5/2/2002 | 67 FR 22168
Yellowstone Energy Limited Partnership June 12, 1998 Exhibit A (with 3/17/00 revisions) Emission Limitations and Other Conditions | 3/17/2000 | 5/22/2003 | 68 FR 27908
Yellowstone Energy Limited Partnership March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908

(e) EPA-approved nonregulatory provisions.

Title/Subject | State effective date | Notice of final rule date | NFR Citation
(1) Statewide
Emergency Episode Avoidance Plan | 6/23/2004 | 1/3/2006 | 71 FR 19.
Montana State Department of Health and Environmental Sciences, Air Quality Bureau, Sampling and Analytical Procedures, | 12/31/1971 | 1/16/1986 | 51 FR 2397.
Nonregulatory Provisions, 40 CFR 52.1394, 1997 Ozone Infrastructure Certification | 12/22/2009 | 7/22/2011 | 76 FR 43918.
Nonregulatory Provisions, Interstate Transport, Rule Declaration Satisfying the Requirements of 110(a)(D)(2)(i) of the CAA for 1997 8-hr Ozone and PM2.5 Standards | 2/12/2007 | 2/26/2008 | 73 FR 10150.
Infrastructure Requirements for the 1997 and 2006 PM2.5 National Ambient Air Quality Standards | N/A | 7/30/2013 | 78 FR 45864.
Interstate Transport of Pollution for the 2006 PM2.5 NAAQS | N/A | 7/30/2013 | 78 FR 45869.
(2) Cascade County
Board Order—2000 October 16, Approval of Amendment for Cascade County's Air Pollution Control Program | 10/16/2000 | 6/12/2001 | 66 FR 31548.
Great Falls Carbon Monoxide (CO)—Maintenance Plan, State of Montana Air Quality Control Implementation Plan, Cascade County Carbon Monoxide Limited Maintenance Plan, Chapter 7, Great Falls Carbon Monoxide (CO) Limited Maintenance Plan | 12/19/2000 | 5/9/2002 | 67 FR 31143.
(3) Flathead County
Board Order—1991 November 15. In the Matter of the Application of the Cities of Columbia Falls and Kalispell and the County of Flathead for Approval of a Local Air Pollution Control Program | 11/15/1991 | 4/14/1994 | 59 FR 17700.
Board Order—1993 September 17. In the Matter of Compliance of Named Stationary Sources | 9/17/1993 | 3/19/1996 | 61 FR 11153.
Board Order—1994 May 20. In the Matter of the Application of the Cities of Columbia Falls and Kalispell and the County of Flathead for Approval of a Local Air Pollution Control Program | 5/20/1994 | 3/19/1996 | 61 FR 11153.
Kalispell Particulate Matter (PM-10) Attainment Plan, PM-10 SIP Commitment, Commitment Letter |  | 3/19/1996 | 61 FR 11153.
Particulate Matter (PM-10)—Plan Summary, Columbia Falls Particulate Matter (PM-10) Attainment Plan
Particulate Matter (PM-10)—Plan Summary, Plan Summary, Kalispell Particulate Matter (PM-10) Attainment Plan
Resolution 867, Adopting Flathead County Air Pollution Control Program | 11/15/1991 | 4/14/1994 | 59 FR 17700.
Resolution 867B, Adopting Flathead County Air Pollution Control Program | 10/3/1991 | 3/19/1996 | 61 FR 11153.
Stipulation—1991 November 15, In the Matter of the Application of the Cities of Columbia Falls and Kalispell and the County of Flathead for Approval of Local Air Pollution Control Program | 11/15/1991 | 4/14/1994 | 59 FR 17700.
(4) Lewis and Clark County
Lead NAAQS—Plan Summary, Plan Summary, East Helena Lead Attainment Plan
Sulfur Dioxide NAAQS—Plan Summary, Plan Summary, East Helena Sulfur Dioxide (SO2) Attainment Plan
Total Suspended Particulate NAAQS—East Helena, East Helena Section of Chapter 5 of SIP, 4-6-79 |  | 1/10/1980 | 45 FR 2034.
(5) Lincoln County
Board Orders, Board Order—1991 November 15, In the Matter of the Application of the City of Libby and County of Lincoln for Approval of its Local Air Pollution Control Program | 11/15/1991 | 8/30/1994 | 59 FR 44627.
Board Orders, Board Order—1993 March 19, In the Matter of the Application of the City of Libby and County of Lincoln for Approval of Amendments to their Local Air Pollution Control Program | 3/19/1993 | 8/30/1994 | 59 FR 44627.
Board Orders, Board Order—1994 December 16, In the Matter of the Application of the City of Libby and County of Lincoln for Approval of Amendments to the Local Air Pollution Control Program | 12/16/1994 | 9/30/1996 | 61 FR 51014.
Board Orders, Board Order—1996 February 1, In the Matter of the Application of the City of Libby and County of Lincoln for Approval of Amendments to the Local Air Pollution Control Program | 2/1/1996 | 9/30/1996 | 61 FR 51014.
Board Orders, Board Order; March 23, 2006, In the Matter of the Application of Lincoln County for Approval of Amendments to its Local Air Pollution Control Program | 3/23/2006 | 3/17/2011 | 76 FR 14584.
Particulate Matter (PM-10)—Plan Summary, Plan Summary, Libby Particulate Matter (PM-10) Attainment Plan |  | 3/17/2011 | 76 FR 14584.
Resolution, 276 | 3/19/1993 | 8/30/1994 | 59 FR 44627.
Resolution, 377 | 9/27/1995 | 9/30/1996 | 61 FR 51014.
Resolution, 725 | 3/23/2006 | 3/17/2011 | 76 FR 14584.
State of Montana Air Quality Control Implementation Plan, Lincoln County Air Quality Control Program, Chapter 27, Libby PM-10 SIP Commitments, 27.10.18, | 12/21/1992 | 8/30/1994 | 59 FR 44627.
Stipulation—1991 October 7, In the Matter of the Application of the City of Libby and County of Lincoln for Approval of its Local Air Pollution Control Program | 11/15/1991 | 8/30/1994 | 59 FR 44627.
Stipulation—1993 March 18, In the Matter of the Application of the City of Libby and County of Lincoln for Approval of Amendments to their Local Air Pollution Control Program | 3/19/1993 | 8/30/1994 | 59 FR 44627.
(6) Missoula County
Board Order—1991 June 28, In the matter of the Application of the City of Missoula and the County of Missoula for Approval of Amendments to its Local Air Pollution Control Program | 1/24/1992 | 1/18/1994 | 59 FR 2537.
Board Orders, Board Order—1992 March 20, In the matter of the Application of the City of Missoula and the County of Missoula for Approval of Amendments to its Local Air Pollution Control Program | 3/20/1992 | 1/18/1994 | 59 FR 2537.
Board Order—1992 September 25, In the matter of the Application of the City of Missoula and the County of Missoula for Approval of Amendments to its Local Air Pollution Control Program relating to the adoption of a Carbon Monoxide Control Plan | 9/25/1992 | 11/8/1994 | 59 FR 55585.
Board Order—1993 November 19, In the matter of the Application of the City of Missoula and the County of Missoula for Approval of Amendments to its Local Air Pollution Control Program | 11/19/1993 | 12/13/1994 | 59 FR 64139.
Board Order—1994 September 16, In the matter of the Application of the City of Missoula and the County of Missoula for Approval of Amendments to its Local Air Pollution Control Program | 9/16/1994 | 8/30/1995 | 60 FR 45051.
Board Order—1997 October 31, In the matter of the Application of the City of Missoula and the County of Missoula for Approval of Amendments to its Local Air Pollution Control Program | 10/31/1997 | 1/3/2000 | 65 FR 16.
Board Order—2000 November 30, In the matter of the Application of the City of Missoula and the County of Missoula for Approval of Amendments to its Local Air Pollution Control Program | 11/17/2000 | 11/15/2001 | 66 FR 57391.
Missoula Carbon Monoxide (CO) Maintenance Plan, State of Montana Air Quality Control Implementation Plan, Chapter 32, The Missoula County Carbon Monoxide Redesignation Request and Maintenance Plan | 3/7/2005 | 8/17/2007 | 72 FR 46158.
Particulate Matter (PM-10)—Plan Summary, Plan Summary, Missoula Particulate Matter (PM-10)—Attainment Plan Summary
Stipulations, Stipulation—1991 April 29, In the matter of the Application of the City of Missoula and the County of Missoula for Approval of Amendments to its Local Air Pollution Control Program | 1/24/1992 | 1/18/1994 | 59 FR 2537.
(7) Sanders County
Board Order, Board Order—1997 June 20, In the Matter of the Application of The Department of Environmental Quality for Inclusion of a Control Plan for PM-10 Emissions in The Thompson Falls Area Into the Montana State Implementation Plan | 6/20/1997 | 1/22/2004 | 69 FR 3011.
Maintenance Agreement, Maintenance Agreement—1997 May, Maintenance Agreement Between The City of Thompson Falls, Department of Transportation, and Department of Environmental Quality for Street Sweeping Responsibilities | 6/20/1997 | 1/22/2004 | 69 FR 3011.
Particulate Matter (PM-10)—Plan Summary, Plan Summary, Thompson Falls Particulate Matter (PM-10) Control Plan
(8) Silver Bow County
Board Order—1991 November 15, In the Matter of the Application of Butte-Silver Bow Council of Commissioners for Approval of its Local Air Pollution Control Program | 11/15/1991 | 3/11/1994 | 59 FR 11550.
Board Order—1994 May 20, In the Matter of the Application of Butte-Silver Bow Council of Commissioners for Approval of Amendments to its Local Air Pollution Control Program | 5/20/1994 | 3/22/1995 | 60 FR 15056.
Ordinance 330, Establishing Residential Wood Burning and Idling Diesel Vehicle and Locomotive Requirements | 11/15/1991 | 3/11/1994 | 59 FR 11550.
Ordinance 468, Contingency Measure Requirements for Liquid De-icers | 5/20/1994 | 3/22/1995 | 60 FR 15056.
Particulate Matter (PM-10)—Plan Summary, Plan Summary, Butte Particulate Matter (PM-10) Attainment Plan
Resolutions, Resolution 1307, Establishing Sanding and Chip Seal Material Standards and Street Sweeping and Flushing Policies | 3/6/1991 | 3/11/1994 | 59 FR 11550.
State of Montana Air Quality Control Implementation Plan, Butte/Silver Bow Air Quality Control Program, Chapter 47, Butte PM-10 SIP Commitments, 47.10.18 | 7/9/1992 | 3/11/1994 | 59 FR 11550.
Stipulation—1991 October 7, In the matter of compliance of the City and County of Butte-Silver Bow and the Montana Department of Transportation | 11/15/1991 | 3/11/1994 | 59 FR 11550.
Stipulation—1991 October 8, In the matter of the Application of Butte-Silver Bow Council of Commissioners for Approval of its Local Air Pollution Control Program | 3/20/1992 | 3/11/1994 | 59 FR 11550.
(9) Yellowstone County
Billings Carbon Monoxide (CO)—Plan Summary, Plan Summary, Billings Carbon Monoxide (CO) Maintenance Plan
Billings Carbon Monoxide (CO)—Maintenance Plan, State of Montana Air Quality Control Implementation Plan, Yellowstone County Air Pollution Control Program, Chapter 56, Billings Carbon Monoxide (CO) Limited Maintenance Plan | 12/19/2000 | 2/21/2002 | 67 FR 7966.
Board Order, Board Order—1999 September 24, Approval of Amendments to Yellowstone County's Air Pollution Control Program | 9/24/1999 | 8/13/2001 | 66 FR 42427.
Sulfur Dioxide—Board Orders, Stipulations, Exhibits and Attachments, 1977 December 1—Stipulation, In the matter of the Proposed Revision of the State Implementation Plan for the Billings Air Quality Maintenance Area | 1/25/1978 | 9/6/1979 | 44 FR 51977.
Sulfur Dioxide—Board Orders, Stipulations, Exhibits and Attachments, 1978 January 25—Board Order, In the matter of the Proposed Revision of the Montana State Implementation Plan for the Billings Air Quality Maintenance Area | 1/25/1978 | 9/6/1979 | 44 FR 51977.
Sulfur Dioxide—Board Orders, Stipulations, Exhibits and Attachments, Montana Power June 12, 1998 Exhibit A, Emission Limitations and Other Conditions | 6/12/1998 | 5/2/2002 | 67 FR 22168.

[FR Doc. 2015-09414 Filed 4-23-15; 8:45 am]

BILLING CODE 6560-50-P